RAILROAD RETIREMENT BOARD

Agency Forms Submitted for OMB Review, Request for Comments

SUMMARY: In accordance with the Paperwork Reduction Act of 1995 (44 U.S.C. Chapter 35), the Railroad Retirement Board (RRB) is an forwarding Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Reimbursement for Hospital Insurance Services in Canada; OMB 3220-0086.

Under section 7(d) of the Railroad Retirement Act (RRA), the RRB administers the Medicare program for persons covered by the railroad retirement system. Payments are provided under section 7(d)4) of the RRA for medical services furnished in Canada to the same extent as for those furnished in the United States. However, payments for the services furnished in Canada are made from the Railroad Retirement Account rather than from the Federal Hospital Insurance Trust Fund, with the payments limited to the amount by which insurance benefits under Medicare exceed the amount payable under Canadian Provincial plans.

Form AA-104, Application for Canadian Hospital Benefits Under Medicare—Part A, is provided by the RRB to a claimant seeking reimbursement for covered hospital services received in Canada. The form obtains information needed to determine the eligibility of the applicant and the amount of any reimbursement due. One response is requested of each respondent. Completion is required to obtain a benefit.

Previous Requests for Comments: The RRB has already published the initial 60-day notice (79 FR 37357 on July 1, 2014) required by 44 U.S.C. 3506(c)(2). That request elicited no comments.

Information Collection Request (ICR)

Title: Application for Reimbursement for Hospital Insurance Services in Canada.

OMB Control Number: 3220-0086.

Form(s) submitted: AA-104.

Type of request: Extension without change of a currently approved collection.

Affected public: Individuals or Households.

Abstract: The Railroad Retirement Board administers the Medicare program for persons covered by the railroad retirement system. The collection obtains the information needed to determine eligibility and for the amount due for covered hospital services received in Canada.

Changes proposed: The RRB proposes no changes to Form AA-104.

The burden estimate for the ICR is as follows:

Form No. | Annual responses | Time (minutes) | Burden (hours)
AA-104 | 30 | 10 | 5

2. Title and purpose of information collection: Availability for Work; OMB 3220-0164. Under Section 1(k) of the Railroad Unemployment Insurance Act, unemployment benefits are not payable for any day for which the claimant is not available for work.

Under Railroad Retirement Board (RRB) regulation 20 CFR 327.5, “available for work” is defined as being willing and ready for work. A claimant is “willing” to work if willing to accept and perform for hire such work as is reasonably appropriate to his or her employment circumstances. A claimant is “ready” for work if he or she (1) is in a position to receive notice of work and is willing to accept and perform such work, and (2) is prepared to be present with the customary equipment at the location of such work within the time usually allotted.

Under RRB regulation 20 CFR 327.15, a claimant may be requested at any time to show, as evidence of willingness to work, that reasonable efforts are being made to obtain work. In order to determine whether a claimant is; (a) available for work, and (b) willing to work, the RRB utilizes Forms UI-38, UI Claimant's Report of Efforts to Find Work, and UI-38s, School Attendance and Availability Questionnaire, to obtain information from the claimant and Form ID-8k, Questionnaire—Reinstatement of Discharged or Suspended Employee, from the union representative. One response is completed by each respondent. Completion of Forms UI-38 and UI-38s is required to obtain or retain benefits. Completion of Form ID-8k is voluntary.

Previous Requests for Comments: The RRB has already published the initial 60-day notice (79 FR 37357 on July 1, 2014) required by 44 U.S.C. 3506(c)(2). That request elicited no comments.

Information Collection Request (ICR)

Title: Availability for Work.

OMB Control Number: 3220-0164.

Form(s) submitted: UI-38, UI-38s, and ID-8k.

Type of request: Extension without change of a currently approved collection.

Affected public: Individuals or Households, Non-profit institutions.

Abstract: Under Section 1(k) of the Railroad Unemployment Insurance Act, unemployment benefits are not payable for any day in which the claimant is not available for work. The collection obtains information needed by the RRB to determine whether a claimant is willing and ready to work.

Changes proposed: The RRB proposes no changes to the forms in the collection.

The burden estimate for the ICR is as follows:

Form No. | Annual responses | Time (minutes) | Burden (hours)
UI-38s:
In person | 42 | 6 | 4
By mail | 86 | 10 | 14
UI-38 | 2,048 | 11.5 | 392
ID-8k | 5,668 | 5 | 472
Total | 7,844 |  | 882

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-2092 or Charles.Mierzwa@RRB.GOV and to the OMB Desk Officer for the RRB, Fax: 202-395-6974, Email address: OIRA_Submission@omb.eop.gov.

Charles Mierzwa,
Chief of Information Resources Management.

[FR Doc. 2014-22307 Filed 9-22-14; 8:45 am]

BILLING CODE 7905-01-P